DEPARTMENT OF COMMERCE

International Trade Administration

[A-570-848]

Freshwater Crawfish Tail Meat from the People's Republic of China: Notice of Court Decision Not In Harmony with Final Results of Administrative Review

AGENCY: Import Administration, International Trade Administration, Department of Commerce.

SUMMARY: On December 29, 2005, the United States Court of International Trade (“Court”) sustained the final remand determination made by the Department of Commerce (“the Department”) pursuant to the Court's remand of the final results of the administrative review of freshwater crawfish tail meat from the People's Republic of China. See Crawfish Processors Alliance v. United States, Consol. Ct. No. 02-00376, Slip Op. 05-166 (Ct. Int'l Trade December 29, 2005) (“CPA Remand III”). This case arises out of the Departments's Notice of Final Results of Antidumping Duty Administrative Review, and Final Partial Rescission of Antidumping Duty Administrative Review 67 FR 19546 (April 22, 2002) (“Final Results”). The final judgment in this case was not in harmony with the Department's April 2002 Final Results.

EFFECTIVE DATE: February 10, 2006.

FOR FURTHER INFORMATION CONTACT: Scot Fullerton or Christopher D. Riker, AD/CVD Operations, Office 9, Import Administration, International Trade Administration, U.S. Department of Commerce, 14th Street and Constitution Avenue, NW., Washington DC 20230; telephone: (202) 482-1386 or (202) 482-3441, respectively.

SUPPLEMENTARY INFORMATION: In Crawfish Processors Alliance v. United States, 395 F. Supp. 2d 1330 (CIT 2005), the Court remanded the Department's determination in the final results to collapse Jiangsu Hilong International Trade Co., Ltd. (“Jiangsu”) and Ningbo Nanlian Frozen Foods Company, Ltd. (“Nanlian”) with instructions to either: (1) (a) Explain with specificity how the interactions between Jiangsu and Ningbo indicate that one company has control over the other or both, especially how the invoices from Jiangsu to Hontex Enterprises, Inc., d/b/a Louisiana Packing Company created a business relationship with Nanlian during the September 1, 1999, to August 31, 2000, period of review (“99/00 POR”), and (b) explain with specificity how Mr. Wei's contacts with Jiangsu and Nanlian demonstrate control of either company on behalf of the other or control over both; and (2) if the Department is unable to provide substantial evidence supporting its collapsing decision, then it is to treat Jiangsu and Nanlian as unaffiliated entities and assign separate company specific antidumping duty margins using verified information on the record.

On November 25, 2005, the Department issued the draft results of redetermination pursuant to remand (“draft results”) for comment by interested parties. No party filed comments in response to the Department's draft results of redetermination pursuant to remand. On December 9, 2005, the Department issued its final results of redetermination pursuant to remand to the Court. The remand redetermination explained that without the presumption of affiliation between Jiangsu and Nanlian from the prior administrative reviews, the invoices and Mr. Wei's contacts between the two companies were insufficient to sustain the determination to collapse the two companies. Therefore, the Department stated that it would treat Jiangsu and Nanlian as unaffiliated entities. Accordingly, Nanlian's antidumping duty margin for the 99/00 POR is 62.51 percent. The Department did not initiate a review of Jiangsu during the period of review. Thus, the Department did not determine an antidumping duty margin for Jiangsu for the 99/00 POR.

On December 29, 2005, the Court found that the Department complied with the Court's remand order and sustained the Department's remand redetermination. See CPA Remand III.

Timken Notice

In its decision in Timken Co., v. United States, 893 F.2d 337, 341 (Fed. Cir. 1990) (“Timken”), the United States Court of Appeals for the Federal Circuit held that, pursuant to section 516A(e) of the Tariff Act of 1930, as amended (“the Act”), the Department must publish a notice of a court decision that is not “in harmony” with a Department determination, and must suspend liquidation of entries pending a “conclusive” court decision. The Court's decision in CPA Remand III on December 29, 2005, constitutes a final decision of that court that is not in harmony with the Department's final results in the 99/00 administrative review of freshwater crawfish tail meat. This notice is published in fulfillment of the publication requirements of Timken. Accordingly, the Department will continue the suspension of liquidation of the subject merchandise pending the expiration of the period of appeal, or, if appealed, upon a final and conclusive court decision.

This notice is issued and published in accordance with section 516A(c)(1) of the Act.

Dated: February 3, 2006.
David Spooner,
Assistant Secretary for Import Administration.

[FR Doc. E6-1890 Filed 2-9-06; 8:45 am]

BILLING CODE 3510-DS-S